DEPARTMENT OF COMMERCE

Economic Development Administration

Agency Information Collection Activities; Submission to the Office of Management and Budget (OMB) for Review and Approval; Comment Request; Form ED-840P, Petition by a Firm for Certification of Eligibility To Apply for Trade Adjustment Assistance, and Adjustment Proposals

AGENCY: Economic Development Administration (EDA), Department of Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 23, 2022.

ADDRESSES: Interested persons are invited to submit written comments via email to Miriam Nettles-Kearse, Lead Program Analyst, U.S. Department of Commerce, at taac@eda.gov. Please reference OMB Control Number 0610-0091 in the subject line of your comments. Do not submit Confidential Business Information or otherwise sensitive or protected information.

FOR FURTHER INFORMATION CONTACT: Requests for additional information or specific questions related to collection activities should be directed to Miriam Nettles-Kearse, Lead Program Analyst, U.S. Department of Commerce, (202) 849-0941 or at taac@eda.gov.

SUPPLEMENTARY INFORMATION:

I. Abstract

EDA administers the Trade Adjustment Assistance for Firms (TAAF) Program, which is authorized under chapters 3 and 5 of title II of the Trade Act of 1974, as amended (19 U.S.C. 2341-2356) (Trade Act), through a national network of non-profit and university-affiliated Trade Adjustment Assistance Centers (TAACs), each of which serves a different geographic region. EDA certifies firms as eligible to participate in the TAAF Program and provides funding to allow eligible client-firms to receive adjustment assistance through the TAACs. The information collected on Form ED-840P, and relevant supporting documentation is used to determine whether a firm is eligible to participate in the TAAF Program. In accordance with the Trade Act and EDA's regulations as set out at 13 CFR part 315, EDA must verify that the following have occurred: (1) A significant reduction in the number or proportion of the workers in the firm, a reduction in the workers' wage or work hours, or an imminent threat of such reductions; (2) sales or production of the firm have decreased absolutely, or sales or production, or both, of any article or service accounting for at least 25 percent of the firm's sales or production has decreased absolutely; and (3) an increase in imports of articles or services like or directly competitive with those produced or provided by the petitioning firm, which has contributed importantly to the decline in employment and sales or production of that firm. Additionally, to document the connection of increased imports to declining employment and sales or production, the firm must demonstrate that its customers have reduced purchases from the firm in favor of buying items or services from foreign suppliers. The use of Form ED-840P standardizes and limits the information collected as part of the certification process and eases the burden on applicants and reviewers alike.

In addition, after being certified as eligible for TAAF Program assistance following submission of Form ED-840P, firms must create an EDA-approved adjustment proposal in order to receive financial assistance under the TAAF Program. The adjustment proposal is each firm's business plan to remain competitive in the current global economy. Each adjustment proposal must meet certain requirements as set out in the Trade Act and EDA's regulation at 13 CFR 315.11. This notice also includes an estimate of the amount of time a firm spends to research and compile information for adjustment proposals.

Finally, the statutory authorization for the TAAF program is sunsetting in two stages. First, on July 1, 2021, the TAAF program reverted to more limited eligibility criteria. Second, as of June 30, 2022, assistance may not be provided to new firms. After that date, assistance may only be provided to firms that have previously submitted a petition under the TAAF program. EDA wishes to extend the current information collection for the TAAF program so that EDA may continue to review and approve adjustment proposals from certified firms, and in case the TAAF program is re-authorized by Congress.

II. Method of Collection

Form ED-840P may be obtained in Portable Document Format (PDF) from EDA or the TAACs upon request. TAACs are responsible for preparing the petition for certification on the firm's behalf. Although there is no form associated with adjustment proposals, they must meet the requirements for adjustment proposals set out in EDA's regulation at 13 CFR 315.11. Both petitions for certification on Form ED-840P and adjustment proposals may be submitted electronically or via email to taac@eda.gov.

III. Data

OMB Control Number: 0610-0091.

Form Number(s): ED-840P.

Type of Review: Extension of a current information collection.

Affected Public: Businesses or other for-profit organizations.

Estimated Number of Respondents: 300 (150 petitions for certification and 150 adjustment proposals).

Estimated Time per Response: 53 hours for petitions for certification and 120 hours for adjustment proposals.

Estimated Total Annual Burden Hours: 25,950 (7,950 hours for petitions for certification and 18,000 for adjustment proposals).

Estimated Total Annual Cost to Public: $1,531,569 ($469,209 for petitions for certification and $1,062,360 for adjustment proposals; cost assumes application of U.S. Bureau of Labor Statistics third quarter 2021 mean hourly employer costs for employee compensation for professional and related occupations of $59.02).

Respondent's Obligation: Mandatory.

Legal Authority: Chapters 3 and 5 of title II of the Trade Act of 1974, as amended (19 U.S.C. 2341-2356).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-13571 Filed 6-23-22; 8:45 am]

BILLING CODE 3510-34-P